DEPARTMENT OF THE INTERIOR

National Park Service

National Register of Historic Places; Notification of Pending Nominations and Related Actions

Nominations for the following properties being considered for listing or related actions in the National Register were received by the National Park Service before February 5, 2005. Pursuant to section 60.13 of 36 CFR part 60 written comments concerning the significance of these properties under the National Register criteria for evaluation may be forwarded by United States Postal Service, to the National Register of Historic Places, National Park Service, 1849 C Street NW., 2280, Washington, DC 20240; by all other carriers, National Register of Historic Places, National Park Service,1201 Eye Street, NW., 8th floor, Washington DC 20005; or by fax, (202) 371-6447. Written or faxed comments should be submitted by March 10, 2005.

Carol D. Shull,
Keeper of the National Register of Historic Places.

ARIZONA

Gila County

Miami Community Church, 305 Live Oak, Miami, 05000137

CALIFORNIA

Los Angeles County

Bembridge House, 953 Park Circle Dr., Long Beach, 05000002

San Francisco County

Baker and Hamilton, 601 Townsend St., San Francisco, 05000001

COLORADO

Montezuma County

Sand Canyon Archaeological District (Great Pueblo Period of the McElmo Drainage Unit MPS), Address Restricted, Cortez, 05000138

FLORIDA

Duval County

Knight, W.A., Building (Downtown Jacksonville MPS), 113 W. Adams St., Jacksonville, 05000139

GEORGIA

DeKalb County

Candler Park Historic District (Boundary Increase), Roughly bounded by Moreland Ave., Freedom Pkwy., Harold Ave., Matthews St., and DeKalb Ave., Atlanta, 05000140

Muscogee County

Loeb, Sol-Garrett-Joy Building, 900 Front Ave. and 901 Broadway, Muscogee, 05000141

KANSAS

Barton County

Crest Theater (Theaters and Opera Houses of Kansas MPS), 1905 Lakin Ave., Great Bend, 05000003

Coffey County

Plaza Theater (Theaters and Opera Houses of Kansas MPS), 404 Neosho St., Burlington, 05000005

Edwards County

Palace Theater (Theaters and Opera Houses of Kansas MPS), 222 E. 6th St., Kinsley, 05000006

Hamilton County

Northup Theater (Theaters and Opera Houses of Kansas MPS), 116 N. Main St., Syracuse, 05000008

Johnson County

Overland Theater (Theaters and Opera Houses of Kansas MPS), 7204 W. 80th St., Overland Park, 05000009

Montgomery County

Midland Theater (Theaters and Opera Houses of Kansas MPS), 212-214 W. 8th St., Coffeyville, 05000007

Wyandotte County

Granada Theater (Theaters and Opera Houses of Kansas MPS), 1013-1019 Minnesota Ave., Kansas City, 05000004

KENTUCKY

Jefferson County

Brass Finishing Building, Standard Sanitary Manufacturing Company, 1547 S. 7th St., Louisville, 05000142

St. Columba Catholic Campus, 3514 W. Market, Louisville, 05000143

Powell County

Raised Spirits Rockshelter, Address Restricted, Slade, 05000144

Woodford County

Bullock Site, Address Restricted, Verzailes, 05000145

MARYLAND

Prince George's County

Abraham Hall (African-American Historic Resources of Prince George's County, Maryland), 7612 Old Muirkirk Rd., Beltsville, 05000146

Butler House (African-American Historic Resources of Prince George's County, Maryland), 6403 Oxon Hill Rd., Oxon Hill, 05000147

Calloway, Thomas J., House (African-American Historic Resources of Prince George's County, Maryland), 9949 Elm St., Lanham, 05000148

Ridgley Methodist Episcopal Church (African-American Historic Resources of Prince George's County, Maryland), 8900 Central Ave., Landover, 05000149

St. Mary's Beneficial Society Hall (African-American Historic Resources of Prince George's County, Maryland), 14825 Pratt St., Upper Marlboro, 05000150

MICHIGAN

Chippewa County

DeTour Reef Light Station (Light Stations of the United States MPS), 3.0 mi. S of SR 134 ferry dock, DeTour Township, 05000151

Ingham County

Somerville Barn, 1050 N. College Rd., Alaiedon Township, 05000152

Ionia County

Portland Downtown Historic District, Kent, Bridge, Maple Sts., Grand River Ave., Portland, 05000153

NEBRASKA

Boone County

Petersburg Jail, Main St. and Second St., Petersburg, 05000154

Burt County

Tekamah Carnegie Library, 204 S. 13th St., Tekamah, 05000155

Fillmore County

Dempster—Sloan House, 1212 M St., Geneva, 05000156

Richardson County

Humboldt Commercial Historic District, Bounded by Long Branch St., Fifth St., Nemaha St., and Second St., Humboldt, 05000157

NEW HAMPSHIRE

Grafton County

Sphinx Tomb, Address Restricted, Hanover, 05000173

Merrimack County

Suncock Village CommercialCivic Historic Distrct, 1, 9-15 Glass St., 116-161 Main St., 19 Mill Falls, 4 Union St., Pembroke, 05000174

Tucker Mountain Schoolhouse, Address Restricted, Andover, 05000175

NEW JERSEY

Mercer County

Stevens, Israel, House, 2167 Brunswick Ave., Lawrence, 05000176

Ocean County

Manitou Park School House, 167 Third Ave., Berkeley, 05000177

NEW YORK

Cayuga County

New Hope Mills Complex, Glen Haven Rd. and NY 41A, New Hope, 05000158

Richardson, William, House, 5494 Cross Rd., Union Springs, 05000160

Swift, Philetus, House, 866 NY 96, Phelps, 05000159

Wheeler, George and Addison, House, 6353 Grimble Rd., East Bloomfield, 05000168

Erie County

School 13, 266-268 Oak St., Buffalo, 05000161

Franklin County

First Union Protestant Church of Mountain View, 7 Church Rd., Bellmont, 05000162

St. Regis Mountain Fire Observation Station (Fire Observation Stations of New York State Forest Preserve MPS) St. Regis Mountain, Santa Clara, 05000163

Herkimer County

Breckwoldt-Ward House, 90 Van Buren St., Dolgeville, 05000164

Livingston County

First Methodist Episcopal Church of Avon, 130 Genesee St., Avon, 05000165

Montgomery County

Green Hill Cemetery, Church and Cornell Sts., Amsterdam, 05000166

New York County

Building at 304 Park Avenue South, 304 Park Ave. S, New York, 05000167

Steuben County

Wood Road Metal Truss Bridge, Wood Rd. over Cohocton River, Campbell, 05000169

Suffolk County

Rogers, Nathaniel, House, 2539 Montauk Hwy., Bridgehampton, 05000170

Sullivan County

C. Burton Hotel, 450 Main St., Grahamsville, 05000171

Cochecton Railroad Station (Upper Delaware Valley, New York and Pennsylvania MPS), NY 97, Cochecton, 05000172

OHIO

Mahoning County

Mill Creek Park Historic District, Mahoning Ave. to Boardman-Canfield Rd., Mill Creek, 960 Bears Den Rd., Youngstown, 05000178

SOUTH DAKOTA

Kingsbury County

Berger Farmstead, 19802 446th Ave., Badger, 05000179

TENNESSEE

Davidson County

Cameron School, 1034 First Ave. S, Nashville, 05000180

Nashville Christian Institute Gymnasium, 2420 Batavia St., Nashville, 05000181

Shelby County

First Baptist Church (Religious Resources of Memphis, Shelby County, TN MPS), 538 Linden Ave., Memphis, 05000182

First Presbyterian Church (Religious Resources of Memphis, Shelby County, TN MPS), 166 Poplar Ave., Memphis, 05000183

Grace Episcopal Church (Religious Resources of Memphis, Shelby County, TN MPS), 555 Vance Ave., Memphis, 05000184

St. Thomas Catholic Church and Convent (Religious Resources of Memphis, Shelby County, TN MPS), 588 E. Trigg Ave., Memphis, 05000185

Williamson County

Smith, Alexander, House (Williamson County MRA (AD)), 1304 Wilson Pike, Brentwood, 05000186

UTAH

Summit County

Maycock, John, Cabin, Approx. 20 mi. NE of Kamas and 0.5 mi. W of UT 150, Kamas, 05000187

VERMONT

Caledonia County

Shedd, Josiah and Lydia, Farmstead (Agricultural Resources of Vermont MPS), 1721 Bayley-Hazen Rd., Peacham, 05000188

St. Johnsbury Federal Fish Culture Station (Fish Culture Resources of Vermont MPS), 374 Emerxon Falls Rd., St. Johnsbury, 05000189

WASHINGTON

Spokane County

Opportunity Township Hall, 12114 E. Sprague Ave., Spokane Valley, 05000190

Peyton Building and Peyton Annex, 722 W. Sprague Ave./10 N. Post St., Spokane, 05000191

A request for REMOVAL has been made for the following resource:

NEW MEXICO

McKinley

Log Cabin Motel (Route 66 through New Mexico MPS), 1010 W. 66 Ave.

[FR Doc. 05-3387 Filed 2-22-05; 8:45 am]

BILLING CODE 4312-51-P